DEPARTMENT OF TRANSPORTATION

Office of the Secretary

Reports, Forms and Recordkeeping Requirements; Agency Information Collection Activity Under OMB Review

AGENCY: Office of the Secretary, DOT.

ACTION: Notice.

SUMMARY: In compliance with the Paperwork Reduction Act of 1995 (44 U.S.C. 3501 et seq.), this notice announces that the Information Collection Request, ICR abstracted below has been forwarded to the Office of Management and Budget, OMB for renewal and comment. The ICR describes the nature of the information collection and its expected cost and burden. The Federal Register Notice with a 60-day comment period soliciting comments on the following collection of information was published on February 3, 2000 (66 FR 5386) and there were no responses to the initial Notice.

DATES: Comments must be submitted on or before May 26, 2000.

FOR FURTHER INFORMATION CONTACT: Charlotte Hackley; M-61, U.S. Department of Transportation, 400 Seventh Street SW., Washington, DC 20590, telephone (202) 366-4267 or email to charlotte.hackley@ost.dot.gov.

SUPPLEMENTARY INFORMATION:

Office of the Secretary, OST

Title: Extension of information collection authority under Transportation Acquisition Regulation TAR.

OMB Control Number: 2105-0517.

Affected Public: Individuals or households and business or other for-profit organizations.

Abstract: The requested extension of the approved control number covers the TAR which includes forms DOT F 4220.4, DOT F 4220.7, DOT F 4220.43, DOT F 4220.45, DOT F 4220.46, and Form DD 882.

Annual Estimated Burden: 33,115.*

*The annual estimated burden is increased to 33,115 as a result of Section 101(g)(1) of the Motor Carrier Safety Improvement Act of 1999, which requires the Secretary of Transportation to insert (TAR) 48 CFR 1252.209-70 in all Department of Transportation requests for proposal and contracts for research.

Comments are invited on: whether the proposed collection of information is necessary for the proper performance of the functions of the Department, including whether the information will have practical utility; the accuracy of the Department's estimate of the burden of the proposed information collection; ways to enhance the quality, utility and clarity of the information to be collected; and ways to minimize the use of automated collection techniques or other forms of information technology.

Issued in Washington, DC, on the 20th day of April, 2000.
Michael Robinson,
Clearance Officer, United States Department of Transportation.

[FR Doc. 00-10398 Filed 4-25-00; 8:45 am]

BILLING CODE 4910-62-P